DEPARTMENT OF THE INTERIOR

National Park Service

[NPS-WASO-VRP-WS-12612; PPWOVPADW0, PPMPRLE1Y.LB0000]

Proposed Information Collection; Backcountry Use Permit

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on February 28, 2014. We may not conduct or sponsor a survey, and a person is not required to respond to a collection of information, unless it displays a currently valid OMB control number.

DATES: To ensure that we are able to consider your comments on this IC, we must receive them by June 3, 2013.

ADDRESSES: Send your comments on the IC to Madonna L. Baucum, Information Collection Clearance Officer, National Park Service, 1201 I Street NW., MS 1237, Washington, DC 20005 (mail); or madonna_baucum@nps.gov (email). Please include “1024-0022” in the subject line of your comments.

FOR FURTHER INFORMATION CONTACT: To request additional information about this IC, contact Garry Oye, Chief, Wilderness Stewardship Division at (702) 895-4893; or 4505 Maryland Parkway, Box 452040-RAJ284, Las Vegas, NV 89154-2040 (mail); or garry_oye@nps.gov (email). Please include “1024-0022” in the subject line.

SUPPLEMENTARY INFORMATION:

I. Abstract

In 1976, the NPS initiated a backcountry registration system in accordance with the regulations found at 36 CFR 1.5, 1.6 and 2.10. The objective of the use permit system is to provide users access to backcountry areas of national parks with continuing opportunities for solitude, while enhancing resource protection and providing a means of disseminating public safety messages regarding the backcountry travel. NPS backcountry program managers, by designating access routes and overnight camping locations, can redistribute campers in response to user impact, high fire danger, flood or wind hazard, bear activity or other situations that may temporarily close a portion of the backcountry. The NPS may also use the permit system as a means of ensuring that each backcountry user receives up-to-date information on backcountry sanitation procedures, food storage, wildlife activity, trail conditions and weather projections so that concerns for visitor safety are met.

The Backcountry Use Permit is an extension of the NPS statutory authority responsibility to protect the park areas it administers and to manage the public use thereof (16 U.S.C. 1 and 3). NPS regulations codified in 36 CFR parts 1 through 7, 12 and 13 are designated to implement statutory mandates that provide for resource protection and pubic enjoyment. The Backcountry Use Permit is the primary form used to provide access into NPS backcountry areas including those areas that require a reservation to enter where use limits are imposed in accordance with other NPS regulations. Such permitting enhances the ability to the NPS to education users on potential hazards, search and rescue efforts, and resource protection.

II. Data

OMB Control Number: 1024-0022.

Expiration Date: 02/28/2014.

Title: Backcountry Use Permit (36 CFR 1.5, 1.6, and 2.10).

Service Form Numbers: Backcountry Use Permit, 10-404A.

Type of Request: Extension of a currently approved collection of information.

Description of Respondents: Individuals wishing to use backcountry areas within national parks.

Estimated Average Number of Responses: 285,000.

Frequency of Response: 1 per respondent.

Estimated Average Time Burden per Respondent: 5 minutes.

Estimated Total Annual Reporting Burden: 23,750 hours.

Respondent's Obligation: Required to obtain or retain a benefit.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: March 20, 2013.
Madonna L. Baucum,
Information Collection Clearance Officer, National Park Service.

[FR Doc. 2013-07594 Filed 4-1-13; 8:45 am]

BILLING CODE 4310-EH-P